DEPARTMENT OF HOUSING AND URBAN DEVELOPMENT

[Docket No. FR-4453-FA-02]

Announcement of Funding Awards for FY 1999 Public and Indian Housing Economic Development and Supportive Services Carryover

AGENCY: Office of the Assistant Secretary for Public and Indian Housing, HUD.

ACTION: Announcement for funding awards.

SUMMARY: In accordance with Section 102(a)(4)(C) of the Department of Housing and Urban Development Reform Act of 1989, this announcement notifies the public of funding awards for Fiscal Year (FY) 1999 to housing agencies (HAs), Tribes and Tribally Designated Housing Entities (TDHEs) under the Economic Development and Supportive Services (EDSS) Carryover Program. The purpose of this Notice is to publish the names and addresses of the award winners and the amount of the awards made available by HUD to enable these HAs, Tribes/TDHEs to establish and implement programs that increase resident self-sufficiency, and support continued independent living for elderly or disabled residents.

FOR FURTHER INFORMATION CONTACT: Michael Diggs, Director, Grants Management Center, Office of Public and Indian Housing, Department of Housing and Urban Development, 501 School Street, SW, Suite 800, Washington, DC 20024, telephone (202) 358-0221. For the hearing or speech impaired, these numbers may be accessed via TTY (text telephone) by calling the Federal Information Relay Service at 1 (800) 877-8339. (Other than the “800” TTY number, these telephone numbers are not toll-free.)

SUPPLEMENTARY INFORMATION: The EDSS Carryover Program is designed to provide HAs, Tribes, or TDHEs with a range of resources that broaden the number of opportunities for families to overcome barriers to economic self-sufficiency, particularly those affected by welfare reform. EDSS funding also provides resources that address the needs of elderly or disabled persons so that they can continue independent living without institutionalization.

The 1999 awards announced in this Notice were selected for funding in a competition announced in a Federal Register Notice published on March 10, 1999 (64 FR 12028). Applications were scored and selected for funding based on the selection criteria in that Notice.

A total of $8,051,660.00 was awarded to 49 EDSS Carryover grantees, who submitted comprehensive implementation plans, to enable them to increase resident self-sufficiency and support continued independent living for elderly or disabled residents.

Approximately $23.5 million in funding was available for eligible HAs, Tribes and TDHES. This amount is comprised of $6,727,034 from the Departments of Veterans Affairs and Housing and Urban Development, and Independent Agencies Appropriations Act, 1997 (Pub. L. 104-204, 110 Stat. 2874, approved September 26, 1996), and $16,772,966 from the Departments of Veterans Affairs and Housing and Urban Development and Independent Agencies Appropriation Act, 1998 (Pub. L. 105-65, 111 Stat. 1344, approved October 27, 1997). HUD set aside $1.4 million to fund applications from Tribes/TDHEs; the remaining funds were available to fund eligible applications from HAs.

The Catalog of Federal Domestic Assistance number for the EDSS program is 14.863.

In accordance with section 102(a)(4)(C) of the Department of Housing and Urban Development Reform Act of 1989 (103 Stat. 1987, 42 U.S.C. 35445), the Department is publishing the names, addresses, and amounts of those awards as show in Appendix A.

Dated: May 10, 2000.
Harold Lucas,
Assistant Secretary for Public and Indian Housing.

Appendix A—Public and Indian Housing Economic Development and Supportive Services Carryover Funding Awards for FY 1999
Applicant name | Applicant address | City | State | Zip Code | Funded
Huntsville Housing Authority | P.O. Box 486 | Huntsville | Alabama | 35804- | $500,000
Evergreen Housing Authority | P.O. Box 187, 130 Rabb Dr | Evergreen | Alabama | 36401- | 22,500
Tuscaloosa Housing Authority | P.O. Box 2281 | Tuscaloosa | Alabama | 35403- | 307,250
Tingit-Haida Regional Housing Authority | P.O. Box 32237 | Juneau | Alaska | 99803-223 | 150,000
Tucson Housing Authority | P.O. Box 27210 | Tucson | Arizona | 85726- | 154,000
Gila River Housing Authority | P.O. Box 528 | Sacaton | Arizona | 85247- | 263,750
San Bernardino Housing Authority | 1053 North “D” Street | San Bernardino | California | 92410- | 432,750
Ventura Housing Authority | 1400 West Hillcrest Dr | Newbury Park | California | 91320- | 47,912
West Palm Beach Housing Authority | 3801 Georgia Avenue | West Palm Beach | Florida | 33405- | 150,000
Clearwater Housing Authority | 210 S. Ewing Avenue | Clearwater | Florida | 33756- | 150,000
Orlando Housing Authority | 300 Reeves Court | Orlando | Florida | 32801- | 401,750
Lawrenceville Housing Authority | 502 Glenn Edge Drive | Lawrenceville | Georgia | 30045- | 32,500
Dublin Housing Authority | 500 West Mary Street | Dublin | Georgia | 31040- | 136,750
Milledgeville Housing Authority | 400 North Glenn Street | Milledgeville | Georgia | 31061- | 80,750
Guam Housing & Urban Renewal | 117 Bien Venida Avenue | Sinajana | Guam | 96926- | 150,000
Bloomington Housing Authority | 104 East Wood Street | Bloomington | Illinois | 61701- | 92,000
New Albany Housing Authority | P.O. Box 11 | New Albany | Indiana | 47150- | 272,000
Housing Authority of Hopkinsville | P.O. Box 437 | Hopkinsville | Kentucky | 42241-043 | 41,250
Housing Authority of Glasgow | P.O. Box 1745 | Glasgow | Kentucky | 42142-174 | 91,750
Housing Authority of Hickman | 50 Holly Court | Hickman | Kentucky | 42050- | 9,500
Housing Authority of Pikeville | 327 Hellier Street | Pikeville | Kentucky | 41501- | 59,740
Housing Authority of Cattlettsburg | 210 24th Street | Cattlettsburg | Kentucky | 41129- | 24,250
Housing Authority of Fort Fairfield | P.O. Box 230, 255 Maine St | Fort Fairfield | Maine | 04742- | 492,700
Allegany County Housing Authority | 701 Furnace St | Cumberland | Maryland | 21502- | 7,500
Flint Housing Authority | 132 Franklin Blvd | Flint | Michigan | 48341- | 220,250
MRHA V | 110 Broad St | Newton | Mississippi | 39345-041 | 68,000
Pyramid Lake Paiute Tribe | P.O. Box 213 | Nixon | Nevada | 89424-021 | 43,346
Atlantic City Housing Authority * | 227 N. Vermont Ave. 17th | Atlantic City | New Jersey | 08401- | 200,000
Atlantic City Housing Authority | 227 N. Vermont Ave. 17th | Atlantic City | New Jersey | 08401- | 407,000
Camden Housing Authority | 1300 Admiral Wilson | Camden | New Jersey | 18109- | 500,000
Union City Housing Authority | 3911 Kennedy Blvd | Union City | New Jersey | 07087- | 114,000
Secaucus Housing Authority | 700 County Avenue | Secaucus | New Jersey | 07094- | 100,000
Rochester Housing Authority | 140 West Avenue | Rochester | New York | 14611-274 | 350,487
Binghamton Housing Authority | 35 Exchange Street | Binghamton | New York | 13902- | 150,000
Hickory Housing Authority | P.O. Brawer 2927 | Hickory | North Carolina | 28603- | 77,250
Housing Authority of Raleigh | P.O. Box 28007 | Raleigh | North Carolina | 27611- | 397,250
Housing Authority of Salisbury | 200 South Boundary Street | Salisbury | North Carolina | 28145- | 139,500
Haliwa-Saponi Tribe | P.O. Box 2343 | Fayetteville | North Carolina | 28302- | 134,112
Housing Authority of Clackamas County | P.O. 1510 | Oregon City | Oregon | 97045- | 58,671
North Bend City Housing Authority | 1700 Monroe Street | North Bend | Oregon | 97459- | 12,500
Columbia Housing Authority (Elderly) | 1917 Harden Street | Columbia | South Carolina | 29204- | 144,842
Columbia Housing Authority (Family) | 1917 Harden Street | Columbia | South Carolina | 57262- | 50,000
Sisseton-Wahpeton | P.O. Box 687 | Sisseton | South Dakota | 57262- | 150,000
Oak Ridge Housing Authority | 10 Van Hicks Lane | Oak Ridge | Tennessee | 37830- | 29,000
Galveston Housing Authority | 4700 Broadway | Galveston | Texas | 77551- | 353,250
Danville RHA | 651 Cardinal Place | Danville | Virginia | 24541- | 150,000
KITSAP Co Consolidated Housing Authority | 9265 Bayshore Drive, NW | Silverdale | Washington | 98383- | 34,000
Cheyenne Housing Authority | 3304 Sheridan Street | Cheyenne | Wyoming | 82009- | 36,850

[FR Doc. 00-12298 Filed 5-15-00; 8:45 am]

BILLING CODE 4210-33-M